DEPARTMENT OF THE INTERIOR

National Park Service

National Register of Historic Places; Notification of Pending Nominations

Nominations for the following properties being considered for listing in the National Register were received by the National Park Service before August 5, 2000. Pursuant to section 60.13 of 36 CFR part 60 written comments concerning the significance of these properties under the National Register criteria for evaluation may be forwarded to the National Register, National Park Service, 1849 C St. NW, NC400, Washington, DC 20240. Written comments should be submitted by August 29, 2000.

Carol D. Shull,
Keeper of the National Register.

ALABAMA

Baldwin County

Governor's Club, 11866 Magnolia St., Magnolia Springs, 00001031

Moore Store, 14770 Oak St., Magnolia Springs, 00001027

Jefferson County

Gaston, A.G., Building, 1527 Fifth Ave. N, Birmingham, 00001028

Marengo County

Farrish, Patrick, House, 177 East St., Thomaston, 00001026

Golden, C.S., House, 540 Seventh Ave., Thomaston, 00001029

Thomaston Central Historic District, Roughly bounded by Chestnut St., Sixth Ave., Seventh Ave., Short St. and CSX RR., Thomaston, 00001023

Thomaston Colored Institute, 1120 Seventh Ave., Thomaston, 00001024

St. Clair County

Avandale Mill Historic District, Roughly bounded by 25th St. N, 7th Ave. N, 30th St. N, and S of 4th Ave. N., Pell City, 00001030

Sumter County

Beavers, Dr. James Alvis, House, Old Livingston Rd., Cuba, 00001025

DISTRICT OF COLUMBIA

District of Columbia United Mine Workers of America, 900 Fifteenth St. NW, Washington, 00001032

FLORIDA

Manatee County

Reid—Woods House, (Whitfield Estates Subdivision MPS) 373 Whitfield Ave., Sarasota, 00001033

MARYLAND

Anne Arundel County

Primrose Hill, 3 Milkshake Ln., Annapolis, 00001034

Montgomery County

Silver Spring Baltimore and Ohio Railroad Station, 8100 Georgia Ave., Montgomery, 00001035

MASSACHUSETTS

Worcester County

Sawyer Homestead, 108 Maple St., Sterling, 00001036

NEW HAMPSHIRE

Cheshire County

Peck—Porter House, Main St., jct. with Middle St., Walpole, 00001037

Merrimack County

Robie's Country Store, 8 Riverside St., Hooksett, 00001038

OKLAHOMA

Blaine County

Sooner Co-op Association Elevator (West), (Grain Storage and Processing Facilities in Western Oklahoma MPS) 302 West F St., Okeene, 00001040

Kingfisher County

Dow Grain Company Elevator, (Grain Storage and Processing Facilities in Western Oklahoma MPS) 105 East Oklahoma St., Okarche, 00001041

Farmers Co-op Elevator, (Grain Storage and Processing Facilities in Western Oklahoma MPS) 121 West Kansas St., Hennessey, 00001042

Kiel-Dover Farmers Elevator, (Grain Storage and Processing Facilities in Western Oklahoma MPS) Jct. East Chestnut St. and Railroad, Dover, 00001043

Stephens County

Brittain-Garvin House, 411 North 9th St., Oklahoma, 00001039

PENNSYLVANIA

McKean County

Bradford Downtown Historic District, (Oil Industry Resources in Western Pennsylvania MPS) Roughly bounded by Central Alley, Barbour St., Bushnell St., Howard Place, Davis St., and Boylston St., Bradford, 00001044

WISCONSIN

Milwaukee County

McIntosh-Goodrich Mansion, 1584 N. Prospect Ave., Milwaukee, 00001045

[FR Doc. 00-20521 Filed 8-11-00; 8:45 am]

BILLING CODE 4310-70-P